DEPARTMENT OF STATE

[Public Notice: 6010]

60-Day Notice of Proposed Information Collection: DS-160, Nonimmigrant Visa Electronic Application, OMB 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Nonimmigrant Visa Electronic Application.

• OMB Control Number: None.

• Type of Request: New Collection.

• Originating Office: Bureau of Consular Affairs, Visa Services (CA/VO).

• Form Number: DS-160.

• Respondents: All nonimmigrant visa applicants.

• Estimated Number of Respondents: 12,300,000.

• Estimated Number of Responses: 12,300,000.

• Average Hours Per Response: 75 minutes.

• Total Estimated Burden: 153,750,000 hours.

• Frequency: Once per visa application.

• Obligation to Respond: Required to Obtain Benefit.

DATES: The Department will accept comments from the public up to 60 days from December 7, 2007.

ADDRESSES: You may submit comments by any of the following methods:

• Web: Persons with access to the internet may also view and comment on this notice by going to the regulations.gov Web site at http:www.regulations.gov/index/cfm.

• Mail (paper, disk, or CD-ROM submissions): Chief, Legislation and Regulations Division, Visa Services—DS-160, 2401 E Street, NW., Washington DC 20520-30106.

You must include the DS form number (if applicable), information collection title, and OMB control number in any correspondence.

FOR FURTHER INFORMATION CONTACT: Direct requests for additional information regarding the collection listed in this notice, including requests for copies of the proposed information collection and supporting documents, to Andrea Lage, who may be reached at (202) 663-1399.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Nonimmigrant Visa Electronic Application (DS-160) will be used to collect biographical information from individuals seeking a nonimmigrant visa. The consular officer uses the information collected to determine the applicant's eligibility for a visa. This collection combines questions from current information collections DS-156 (Nonimmigrant Visa Application), DS-156E (Nonimmigrant Treaty Trader Investor Application), DS-156K (Nonimmigrant Fiancé Application), DS-157 (Nonimmigrant Supplemental Visa Application), DS-158 (Contact Information and Work History Application), and DS-3052 (Nonimmigrant V Visa Application).

Methodology

The DS-160 will be submitted electronically to the Department via the Internet. The applicant will be instructed to print a confirmation page containing a bar-coded record locator, which will be scanned at the time of processing. Applicants who submit the electronic application will no longer submit paper-based applications to the Department.

Dated: November 20, 2007.
June H. Kunsman,
Managing Director, Bureau of Consular Affairs, Department of State.

[FR Doc. E7-23814 Filed 12-6-07; 8:45 am]

BILLING CODE 4710-06-P